DEPARTMENT OF HEALTH AND HUMAN SERVICES

Centers for Disease Control and Prevention

[Program Announcement 01163]

HIV Prevention Projects for Community-Based Organizations Targeting Young Men of Color Who Have Sex With Men; Notice of Availability of Funds for Fiscal Year (FY) 2001

A. Purpose

For fiscal year 2001, the Centers for Disease Control and Prevention (CDC) is offering funds for a cooperative agreement program for Human Immunodeficiency Virus (HIV) Projects for Community-Based Organizations Targeting Young Men of Color Who Have Sex With Men (YMSM of Color). This program addresses the Healthy People 2010 priority area(s) of Educational and Community-Based Programs, HIV Infection, and Sexually Transmitted Diseases (STDs).

Note: CDC strongly suggests that you supplement this program announcement as it appears in the Federal Register, with a copy of the program announcement that is in an easy-to-use format. This easy-to-read version can be found on the CDC home page Internet address http://www.cdc.gov. Click on “Funding” then “Grants and Cooperative Agreements.”

B. Eligibility Requirements

1. Have proof of current tax-exempt status under Internal Revenue Service (IRS) Code Section 501(c)(3).

2. Be located and provide services in one of the following eligible metropolitan statistical areas (MSAs): Atlanta, GA; Baltimore, MD; Chicago, IL; Cleveland—Lorain—Elyria, OH; Columbia, SC; Dallas, TX; Detroit, MI; Fort Lauderdale, FL; Houston, TX; Jackson, MS; Jacksonville, FL; Kansas City, MO-KS; Los Angeles, CA; Memphis, TN-AR-MS; Miami, FL; New Orleans, LA; New York, NY; Newark, NJ; Norfolk-Virginia Beach—Newport News, VA; Oakland, CA; Philadelphia, PA; St. Louis, MO; San Antonio, TX; San Diego, CA; San Francisco, CA; San Juan, PR; Seattle, WA; Tampa—St. Petersburg—Clearwater, FL; Orlando, FL; Washington, D.C.; West Palm Beach, FL.

3. Be able to show that your organization has provided HIV prevention or care services over the last two years to young men of color who have sex with men (YMSM of color) (ages 24 years and younger). This may include the sexual partners of YMSM and/or transgendered youth (ages 24 years and younger).

4. Be able to show that 75 percent of the persons your program served in the past two years are of racial/ethnic minority populations.

5. Provide at least three letters of support from civic, business or faith-based organizations, which are located in the community and also serve the proposed target population, that show you have been providing HIV prevention services to YMSM of color in the target communities.

6. Provide a statement that within 6 months of being selected for funding you will agree to:

a. have at least one young person, age 24 years or younger, who is a member of the target population, actively serving on the board of directors, or

b. have a group of young persons from the targeted population actively involved in advising the board of directors on the direction of youth prevention programs. Please indicate if your organization already meets this requirement.

7. Not request more than $350,000, including indirect costs, if applying under Category A; and no more than $500,000 if applying under Category B.

8. Not be a government or municipal agency (including a health department, school board, or public hospital), a private or public university or college, or a private hospital.

9. You can only apply for funding under one of the two categories (see next section).

Note: You are not eligible to receive Federal funds constituting an award, grant, cooperative agreement, contract, loan or any other form, if under Title 2 of the United States Code, Chapter 26, Section 1611, you are considered to be an organization as described in section 501(c)(4) of the Internal Revenue Code of 1986 that engages in lobbying activities.

C. Availability of Funds

About $7 million is available for awards for fiscal year 2001. It is expected that those CBOs who are selected will receive funding in September 2001. The funds are to be used during a budget time frame of 12 months within a project period of up to 5 years.

Note: Funding estimates may change based on the availability of funds.

Funds will be distributed in two categories:

Category A: Delivery of HIV Prevention Services and Infrastructure Development. Approximately $5 million is available to fund 14 to16 awards in this category. Applications that ask for more than $350,000, including indirect costs, will not be considered and the application will be returned to you.

Category B: Strategic Alliances for the Delivery of HIV Prevention Services. Approximately $2 million is available to fund up to 4 awards under this category. Applications that ask for more than $500,000, including indirect costs, will not be considered and the application will be returned to you.

Your organization's project may be continued for a total of 5 years (that is to say, 2001, 2002, 2003, 2004, 2005) under this agreement. Funding at the same level after the first year is based on the amount of funds available to CDC and your success and/or progress in meeting your goals and objectives.

1. Use of Funds

Funds provided under this announcement must support—

a. Activities directly related to preventing YMSM of color, (ages 24 years and younger) from getting HIV or transmitting the disease to someone else. This may include the sexual partners of YMSM and/or transgendered youth, ages 24 years and younger.

b. Intervention activities that involve preventing other STDs or substance abuse as a means of reducing or eliminating the risk of HIV transmission may also be supported.

Funds provided under this announcement must not be used to—

a. Give direct patient medical care, including substance abuse or medical treatment, or medications.

b. Supplant or duplicate existing funding.

c. Support only administrative and managerial functions.

Note: If your application requests funds only to support administrative or managerial activities your application will not be funded.

Part of the funding under this announcement may be used to;

a. Hire one or more contractors to support coalition partners to help with specific activities; however, you, not the contract organization(s) or the coalition partner(s), must carry out most of the activities paid for with this funding (including managing the program and activities).

b. Help build the capacity of your organization (for example, purchase of computers or software, hiring a business manager).

2. Funding Preferences

In making awards, preference for funding will be given to;

a. ensure a balance of funded CBOs in terms of targeted racial/ethnic minority groups (the number of funded CBOs serving each racial/ethnic minority group may be adjusted based on the rate of HIV/AIDS in that group).

b. a geographic balance of funded CBOs. The number of funded CBOs will be adjusted based on the prevalence of HIV/AIDS cases in the MSA.

c. a balance of funded CBOs in terms of age groups to be served.

d. a balance of funded CBOs in areas where gaps have been identified by the HIV prevention community planning group in the city or state.

D. Program Requirements

There are many activities you can implement to reach YMSM of color (ages 24 and younger) with HIV prevention messages. Your activities should focus on your plan to reach this target population, which may also include the sexual partners of YMSM and transgendered youth (ages 24 and younger). Activities are divided into two categories: Category A and Category B.

1. Recipient Activities

Category A: Delivery of HIV Prevention Services and Infrastructure Development

The applicant will be responsible for—

(1) Involving the target population in planning, implementing, and evaluating activities and services throughout the project period.

(2) Providing mentoring (that is to say, guidance) to youth to enable them to participate in the planning process and/or other organizational functions or direct service activities. Mentors must be trained, the relationship must be for at least six months, and all activities must be monitored.

(3) Using or adapting program models supported by scientifically valid evidence of lowering risk behavior or increasing help-seeking behavior. You may also design and develop your HIV prevention program to meet local needs using a rationale based in science.

Note: Examples of evidence-based models can be found in the “Compendium of Effective Behavioral Interventions,” (Inventory #D235) available in CD-Rom format from the CDC National Prevention Information Network (NPIN) by calling 1-800-458-5231 or at the following website www.cdc.gov/hiv/pubs/hivcompendium.pdf and in the report, “Positive Youth Development in the United States,” commissioned by the U.S. Department of Health and Human Services Assistant Secretary for Planning and Evaluation and available at http://aspe.hhs.gov/hsp/positiveyouthdev99/index.htm.

Your program activities should address barriers to HIV prevention and should focus on issues of stigma and discrimination based on infection status, race, sexual orientation, or gender identity. The activities could address social, health service, and faith organizations and family units that can keep persons at risk from getting the services they need.

Your program should also develop leadership and/or other skills among YMSM of color to help them to effectively participate in the Community Planning process, on the Ryan White Council, or to make useful contributions to the success of CBO, health department, or other grantee activities. These activities should also help build skills to avoid HIV risk behaviors.

(4) Conducting at least one of the interventions listed below. All of your efforts must include cultural competency, sensitivity to issues of sexual and gender identity, and developmental and linguistic appropriateness.

(a) HIV counseling, testing, and referral. Provide HIV counseling, testing, and referral (CTR) services for YMSM of color (ages 24 years and younger). This may include the sexual partners of YMSM and/or transgendered youth (ages 24 years and younger). If you provide these services, you must meet certain requirements and follow set guidelines. See Attachment 3 for more information.

For example: Improve access to or provide appropriate testing sites, that will be more acceptable and accessible to the target population; and/or improve use of post-test counseling, referrals, and follow-up.

(b) Health Education and Risk Reduction. Conduct health education and risk-reduction interventions (HE/RR). These may include individual, group, or community-level interventions.

(c) Outreach Activities. Conduct outreach activities to improve access to the target population. Provide face-to-face HIV prevention interactions, handing out condoms, brochures, and other prevention materials.

(5) Assisting high-risk clients with referral to appropriate primary HIV prevention services, and continued prevention and care services if they are infected.

(6) Monitoring, assuring quality, and evaluating your proposed program by—

(a) Using approximately three to five percent of the funds awarded under this announcement for monitoring intervention activities. CDC will provide technical assistance in tracking program activities and quality.

(b) Preparing and submitting to CDC, within the first 6 months of funding, a quality assurance plan for your program.

(c) Participating in a national evaluation program.

(d) Conducting periodic client satisfaction assessments, for example, questionnaires or focus groups.

Note: During the first year of funding, CDC will work with CBOs to develop standardized evaluation formats and activities for grantees.

(7) Putting into place training and capacity building measures to—

(a) Identify the training needs of your staff.

(b) Develop and put into place a plan to address these training needs.

(c) Work with CDC and CDC-funded capacity-building assistance programs to identify and address the capacity-building needs of your program.

(d) Find and use local resources for organizational and program development, for example, the health department, community development agencies, other CBOs, local colleges and universities, locally based foundations, Service Corps of Retired Executives (a Small Business Administration program), and the local business or industrial community.

(8) Putting into place a communication and information dissemination plan, including—

(a) Marketing your prevention program and services to the target population and local community.

(b) Share lessons learned and successful program models.

(c) Ensuring Internet and e-mail communication for your organization and key program staff during the first year of funding.

Note: You must attend at least one CDC-sponsored meeting of funded agencies. If you sponsor any conferences using CDC funds, you must follow CDC policies for getting approval.

(9) Begin to gather information to help develop and implement a plan for obtaining additional resources from non-CDC sources to further support the program run through this cooperative agreement and to improve the chance that it will continue after the end of the project period.

Note: Local organizations and agencies, such as community development agencies, colleges, and universities, often have information about funding and other types of assistance.

We encourage you to work with other organizations in the community by—

(a) Establishing ongoing collaborations with health departments, community planning groups, academic and research institutions, health care providers, or other local resources in designing, implementing, and evaluating interventions.

(b) Participating in the HIV prevention community planning process. Participation may include going to meetings; if selected, serving as a member of the group; reviewing and commenting on plans; and becoming familiar with and using information from the community planning process, such as the epidemiologic profile, needs assessment data, and intervention strategies. If selected for funding, an overview of project activities should be presented to your jurisdiction's community planning group.

Category B: Strategic Alliances for the Delivery of HIV Prevention Services

Organizations funded under Category B will also be responsible for the activities listed under Category A.

(1) During the first two years of funding, you will have to—

(a) Work to establish dynamic partnerships with other organizations to ensure that a full range of services are available to the target population.

(b) Establish or continue to support this project with a full-time staff position with the responsibility, authority, professional training, and experience needed to lead and coordinate the program activities of the coalition;

(c) Establish or continue to support a coalition including representatives from the health department, local service providers (including CDC-funded CBOs), and affected community members to design, develop, and implement a comprehensive plan for a linked network of HIV prevention services. You should—

(d) Identify key community and opinion leaders and ask them to be a part of the coalition process;

(e) Establish and/or continue to clearly keep track of linkages with local HIV prevention community planning groups, Ryan White CARE Act planning councils, and the State and local health departments;

(f) Establish and/or continue linkages with those local and community-based organizations that provide services to prevent and treat HIV/AIDS, STDs, tuberculosis (TB), and substance abuse. The applicant should also look at including public hospitals, neighborhood and mental health clinics, managed care groups that provide services to persons who receive Medicaid, and Women, Infants, and Children's programs, among others.

Note: The term “coalition,” for this announcement, means a group of organizations working together, where each organization has a clearly defined activity assigned to them from the overall program plan. All groups share program responsibilities, but the organization applying for funds must take the lead and perform most of the program activities. The lead organization must meet all requirements above.

Each member of the coalition should sign a formal memoranda of agreement (MOA) (see Attachment 5) that addresses a way to track referrals and ensure appropriate routine sharing of information about your program's activities and progress. You will also need to give details on the role and what each coalition member will bring to the project. The terms and length of time for the agreement, as confirmed by the MOA, signed by the applicant and each coalition member, must be stated. The documents must be signed by those who have the authority to represent the organization, for example, president, chief executive officer, or executive director.

(g) Develop a community needs assessment for YMSM of color (ages 24 years and younger), in the target area. This may include the sexual partners of YMSM and/or transgendered youth (ages 24 years and younger). This should include reviewing epidemiologic and other data, reviewing the State and local HIV prevention comprehensive plans and other planning documents that can help in the development, and finding out what community assets there are and what gaps in service.

Note: Useful background information can be found in the document entitled, PMI: Constructing a Teen HIV Risk Profile (NPIN Inventory #D269). Contact NPIN for this document at 1-800-458-5231.

(h) Develop a detailed plan for creating and maintaining a linked network of services for the targeted community, based on the community needs assessment. This network may include, but not be limited to, HIV, STD, TB, and substance abuse prevention, treatment, and care services; mental health services; primary care services; social services; and family planning services. Your plan must describe in detail all linkages that will exist within the network.

(2) In years 3 through 5, the applicant should—

(a) Coordinate and participate in the full implementation of the plan;

(b) Serve as liaison among members of the coalition and provide management oversight, facilitate program implementation and operations, and maintain effective working relationships;

(c) Conduct an evaluation of system outcomes using both quantitative and qualitative data, for example, an assessment of the changes in access to care for the target population as a result of the coalition's activities.

2. CDC Activities

If you are selected for funding, CDC will support you by:

a. Providing assistance and consultation on program and administrative issues.

b. Meeting and working with you to find out what your training needs are and how to meet those needs.

c. Sharing the most up-to-date information, both scientific and programmatic, to help prevent HIV infection.

d. Providing assistance and information if you choose to use the new rapid test technologies.

e. Helping you establish partnerships with other groups who receive federal funding to support HIV/AIDS activities.

f. Making sure that successful prevention interventions, program models, and lessons learned are shared between grantees through various mediums.

g. Overseeing your success in program and fiscal activities.

h. Develop standardized evaluation formats and activities for grantees.

E. Application Content

1. When Writing the Application

a. Include page numbers throughout your application. Begin with the first page and number each page through to the last page of the last attachment.

b. Have a Table of Contents for the whole package you send in.

c. Begin each separate section of your application on a new page.

d. Not staple or bind the original document submission or the two (2) copies.

e. Type all materials in a 12 point type size, single spaced.

f. Use 8½ × 11 paper.

g. Set the margins at a minimum of 1 inch.

h. Use headers and footers, as needed.

i. Type on one side of the paper only.

Note: The sections that follow give you the questions you have to answer to correctly prepare your application. There are three sections: 1. Proof of Eligibility, 2. Program Narrative, 3. Budget.

2. When Answering the Questions Below, You Must

a. Label each section, as indicated below, using the section title and, when appropriate, the name of the subsection.

b. Use the abbreviation N/A (not applicable), if a section does not apply to your application.

c. Include all information that is part of the basic plan in the main section of the application, for example, activity timetables, evaluation plans, staff program responsibilities.

Note: Your application will be reviewed based on the answers you give to these questions. To be sure you get the best review of your application, follow the format provided below when writing your application. Please answer all questions with complete sentences that provide detailed information about your eligibility and proposed activities. Do not put basic information in attachments.

3. Proof of Eligibility (Categories A and B)

In this section, provide the information requested below about your organization. This will let us know if you are eligible.

a. Is your organization located within and serving one of the MSAs with the highest prevalence of reported AIDS cases among YMSM, their sexual partners, and transgendered youth (ages 24 years and younger). The MSAs are Atlanta, GA; Baltimore, MD; Chicago, IL; Cleveland-Lorain-Elyria, OH; Columbia, SC; Dallas, TX; Detroit, MI; Fort Lauderdale, FL; Houston, TX; Jackson, MS; Jacksonville, FL; Kansas City, MO-KS; Los Angeles, CA; Memphis, TN-AR-MS; Miami, FL; New Orleans, LA; New York, NY; Newark, NJ; Norfolk-Virginia Beach-Newport News, VA; Oakland, CA; Philadelphia, PA; St. Louis, MO; San Antonio, TX; San Diego, CA; San Francisco, CA; San Juan, PR; Seattle, WA; Tampa-St. Petersburg-Clearwater, FL; Orlando, FL; Washington, D.C.; West Palm Beach, FL. If yes, which one?

b. Does your organization have proof of current, valid Internal Revenue Service (IRS) 501(c)(3) tax-exempt status? If you answer yes, you must attach a copy of the letter from the IRS at the end of this section. If you answer no, you are not eligible to submit an application.

c. Can you show that your organization has provided HIV prevention services for 2 years or more to YMSM of color (This may include the sexual partners of YMSM and/or transgendered youth, ages 24 years and younger)?

d. Are you able to show that 75 percent of the persons your program served in the past two years are of racial/ethnic minority populations?

e. Can you provide at least three letters of support from civic, business or faith-based organizations, which are located in the community and also serve the proposed target population, that show you have been providing HIV prevention services to YMSM of color in the target communities.

f. Is your organization applying under Category A or Category B? You cannot apply in both categories as the lead agency.

g. Is your organization a government or municipal agency, a private or public university or college, or a private hospital? (If you answer yes to this question, you are not eligible to apply.)

h. Is your organization included in the category described in section 501(c)(4) of the Internal Revenue Code of 1986 that engages in lobbying activities? (If you answer yes to this question, you are not eligible to apply.)

Note: You must answer all of these questions and provide any documents requested. If you do not provide all the materials requested, your application will not be reviewed and will be returned to you.

i. Include the following documentation in the appendix of your application under the label, “Proof of Eligibility.”

(1) Copy of the letter from the IRS indicating your 501(c)(3) tax-exempt status.

(2) Any information supporting service you have provided to YMSM, their sexual partners; and transgendered persons (ages 24 years and younger). Include a list of the HIV prevention or care services your organization has provided to the proposed target population and the time period during which each type of service was provided, for example, street outreach, July 1996-present.

4. Program Narrative (Categories A and B)

This section is divided into two parts. The first part outlines the narrative for those applying under Category A. The narrative for Category B is outlined in the second half of this section.

Category A

The narrative should be no more than 35 pages. We have included the number of points attached to each section and a suggested number of pages. Sections can vary in length as long as the total number of pages of the narrative is no more than 35. Total number of points for this section is 1,000. The narrative should address the following areas.

a. Justification of Need (Suggested length: 6 pages) (Points for this section: 75 points)

How this section will be scored: You will be scored on what information you use and how you use it to show the need of the target population for your proposed program. It will help you write your answer for this section, if you check with the health department for information on the HIV statistics and HIV needs assessment developed for the community planning process. Use this information when writing your answers. Answer all of the following questions for this section.

(1) How has your proposed target population been affected by the HIV/AIDS epidemic, for example, how many persons are infected with HIV or AIDS, how many deaths have there been from AIDS, how do socioeconomics affect the population? (20 points)

(2) What are the behaviors and other characteristics of your target population that put them at a high risk of becoming infected with HIV or infecting others (for example, unsafe sexual behaviors as indicated by rates of STDs, teen pregnancy rates, or assessments of risk behaviors; substance use rates; environmental, social, cultural, or language characteristics)? (20 points)

(3) What are the barriers to accessing HIV prevention counseling and testing in your target population? How will you address these barriers? (20 points)

(4) Which organizations in your area are providing similar services? Please describe their activities and how your proposed activities will further meet the needs of the target population or improve services provided. (5 points)

(5) Is your proposed target population a priority population as indicated in the comprehensive HIV prevention plan developed through the community planning process? If not, please tell us why your proposed activities are needed? (10 points)

b. Program Activities (Suggested length: 15 pages) (Points for this section: 400 points)

How this section will be scored: We will look at whether or not your objectives and goals are likely to be achieved; if your activities are sound, doable, creative, specific (how detailed you are in what you want to do), time-phased (have you set a time frame), and measurable (can you show that your activities made a difference).

Answer all of the following questions for this section.

(1) Proposed Interventions (100 points)

(a) What program model are you planning to use?

(b) Which social-behavioral science theory are you basing your proposed program model on?

(c) What risk behavior(s) or help-seeking behavior(s) will your program model address?

(d) What strategies will you use to build skills and capacity for the identified target population to help them participate effectively on the Community Planning Group, Ryan White Council, or within your CBO?

(e) If you have not chosen a program model, what is your plan to find or develop a plan that is supported by scientific evidence to help lower risk behavior(s) or increase help-seeking behavior(s) or that is based on public health standards and behavioral science theory.

(2) Reaching Your Clients (130 points)

(a) What are your objectives and activities planned to reach YMSM of color during the first year of your proposed project (This may include the sexual partners of YMSM and/or transgendered youth, ages 24 years and younger.)?

(b) What are your objectives and activities planned in your community to reduce stigma and discrimination against this population?

(c) What will you do to reach your target population at high risk of becoming infected with HIV or STDs because of sexual or drug-using behaviors?

(d) What steps will you take to build trust and credibility with this population?

(e) How will you get them to use your services?

(f) How will you use the available social networks to help you provide services?

(g) How will you identify and select youth to become a part of your leadership development program?

(h) How will you involve them in planning, evaluating, and modifying your program activities?

(3) Referral and Linkages (80 points)

(a) What are your objectives and activities to help ensure that YMSM of color who are infected with HIV or at a high risk get treatment and other services they need, for example, medical, mental health, drug use treatment, and social services such as housing and transportation (This may include the sexual partners of YMSM and/or transgendered youth, ages 24 years and younger.)?

(b) If you are working with other organizations, which of your proposed activities will be carried out by those organizations, whether they are part of an HIV prevention coalition, subcontractors, or non-paid partners? You must provide in your application a letter of intent from all partnering organizations, as applicable.

(4) Confidentiality (50 points)

(a) What steps will you take to ensure the confidentiality of all records, information, and activities related to your clients?

(b) What steps will you take to ensure the confidentiality of your clients during program activities?

(5) Management and Staffing of the Program (20 points)

(a) How will you manage your program?

(b) What will be the responsibilities and roles of the staff?

(c) What skills and experience does your staff have working with the target population?

(d) What are the responsibilities and roles of those organizations who you want to work with you (for example, staff responsibilities, skills, experience)?

(6) Time line (20 points)

(a) What are the details of your time line? Include information on the most important steps in your project and the approximate dates for when a step is begun and expected to be completed.

c. Training, Quality Assurance, and Program Monitoring and Evaluation (Suggested length: 8 pages) (Points for this section: 200 points)

How this section will be scored: We will look at your overall plan to determine if your objectives are appropriate to your goals, if they are complete, sound in their methods, doable, specific (how detailed you are in what you want to do), time-phased (have you set a time frame), and measurable (can you show that your activities made a difference).

In this section, discuss how you will address each of the requirements for training, quality assurance, and program monitoring and evaluation. With each goal and set of objectives, you also need to discuss activities, staffing/resources, data collection, and your time line.

Answer all of the following questions for this section.

(1) What will you do to make sure your staff gets the training they need? Give an estimate of the number of staff to be trained, which staff will be trained, and who will provide the training? (40 points)

(2) How will you routinely monitor your staff's activities to find out if they are following established guidelines and protocols and what training they need? (30 points)

(3) How will you determine and meet your organization's needs in the areas of capacity-building or technical assistance? (30 points)

(4) How will you find out if you are meeting your objectives during the first year of operation? (40 points)

(5) How will you measure whether your services are meeting the needs of the target population and if those you refer for services are using the referral? (30 points)

(6) How will you monitor your activities and those of the organizations working with you as subcontractors or as collaborators? (30 points)

d. Organizational History and Experience (Suggested length: 8 pages) (Points for this section: 250 points)

How this section will be scored: We will look at the overall experience of your organization in working with YMSMs of color and their partners. This will include how much experience you have related to your proposed project.

Answer all of the following questions for this section.

(1) How does the composition of your board of directors reflect your target population? (Please use Attachment 6 to provide additional information regarding the composition of your board) (50 points)

(2) How does the composition of your key staff (management, supervisory, and administrative positions) and key service provision positions (for example, outreach worker, prevention case manager, counselor, group facilitator) reflect your target population? (50 points)

(3) What are the specific kinds of health-related services, other than HIV prevention services, that you have provided your target population and for how long? (20 points)

(4) What are the HIV prevention services that you have provided your target population and for how long? (20 points)

(5) How have you ensured that any materials or interventions that you use in your program are culturally sensitive and appropriate for the target population? (30 points)

(6) What other experience does your organization have in providing services to YMSMs of color and their partners, and for how long? (20 points)

(7) What is your organization's experience in linking with other organizations to provide HIV care or prevention services and ongoing care, as needed, for your clients? (20 points)

(8) What experience does your organization have in record keeping of when and how services are provided, evaluating services, and marketing services to the target population? (25 points)

(9) What experience does your organization have in improving the way services are delivered by finding and accessing other resources (for example, other organizations, materials, proven strategies)? (15 points)

e. Communication and Information Dissemination (Suggested length: 3 pages) (Points for this section: 75 points)

How this section will be scored: We will look at the overall experience of your organization sharing information with other partners, health departments, national organizations.

Answer all of the following questions for this section.

(1) How are you planning to market your prevention program and services to the target population and local community? (25 points)

(2) How are you planning to compile lessons learned from the project? (30 points)

(3) How would you ensure access to Internet and e-mail communication for your organization during the first year of funding? (20 points)

Category B

The narrative should be no more than 45 pages. We have included the number of points attached to each section and a suggested number of pages. Sections can vary in length as long as the total number of pages of the narrative is no more than 45. Total points for this section is 1,000. The narrative should address the following areas.

a. Justification of Need (Suggested length: 6 pages) (Points for this section: 75 points)

How this section will be scored: You will be scored on what information you use and how you use it to demonstrate the need of the target population for your proposed program. Check with the health department for information on the HIV statistics and HIV needs assessment developed for the community planning process. Use this information when writing your answer for this section.

Answer all of the following questions for this section.

(1) How has your proposed target population been affected by the HIV/AIDS epidemic, for example, how many persons are infected with HIV or AIDS, how many deaths have there been from AIDS, how do socioeconomics affect the population? (20 points)

(2) What are the behaviors and other characteristics of your target population that put them at a high risk of becoming infected with HIV or infecting others (for example, unsafe sexual behaviors as indicated by rates of STDs, teen pregnancy rates, or assessments of risk behaviors; substance use rates; environmental, social, cultural, or language characteristics)? (20 points)

(3) What are the barriers to accessing HIV prevention counseling and testing in your target population? How will you address these barriers? (20 points)

(4) Which organizations in your area are providing similar services? Please describe their activities and how your proposed activities will further meet the needs of the target population or improve services provided. (5 points)

(5) Is your proposed target population a priority population as indicated in the comprehensive HIV prevention plan developed through the community planning process? If not, please tell us why your proposed activities are needed? (10 points)

b. Program Activities (Suggested length: 20 pages) (Points for this section: 400 points)

How this section will be scored: We will look at whether or not your goals are likely to be achieved; if your activities are sound, doable, creative, specific (how detailed you are in what you want to do), time-phased (have you set a time frame), and measurable (can you show that your activities made a difference).

Answer all of the following questions for this section.

(1) Proposed Interventions (100 points)

(a) What program model are you planning to use?

(b) Which social-behavioral science theory are you basing your proposed program model on?

(c) What risk behavior(s) or help-seeking behavior(s) will your program model address?

(d) What strategies will you use to build skills and capacity for identified target population to help them participate effectively in the Community Planning process, on the Ryan White Council, or within your CBO?

(e) If you have not chosen a program model, what is your plan to find or develop a plan that is supported by scientific evidence to help lower risk behavior(s) or increase help-seeking behavior(s) or that is based on public health standards and behavioral science theory.

(2) Reaching Your Clients (130 points)

(a) What are your objectives and activities planned to reach YMSM of color during the first year of your proposed project (This may include the sexual partners of YMSM and/or transgendered youth ages 24 years and younger.)?

(b) What are your objectives and activities planned in your community to reduce stigma and discrimination against this population?

(c) What will you do to reach your target population at high risk of becoming infected with HIV or STDs because of sexual or drug-using behaviors?

(d) What steps will you take to build trust and credibility with this population?

(e) How will you get them to use your services?

(f) How will you use the available social networks to help you provide services?

(g) How will you identify and select youth to become a part of your leadership development program?

(h) How will you involve them in planning, evaluating, and modifying your program activities?

(3) Referral and Strategic Partnerships (80 points)

(a) How will you help persons who are HIV infected or at a high risk of HIV get the treatment and other services they need (for example, medical, mental health, drug use treatment, and social services such as housing and transportation)?

(b) Who will be part of your coalition? Members may include the following, as appropriate: Community groups and organizations, including churches and religious groups; HIV/AIDS service organizations; Ryan White CARE Title I and Title II planning bodies; schools, boards of education, and other State or local education agencies; State and local substance abuse agencies, community-based and other drug-treatment or detoxification programs; Federally funded community projects, such as those funded by the Substance Abuse and Mental Health Services Administrations' Center for Substance Abuse Treatment and Center for Substance Abuse Prevention, the U.S. Department of Health and Human Services' Health Resource Services Administration, Office of Minority Health, and other Federal agencies; Providers of services to youth in high-risk situations (for example, youth in shelters); State or local departments of mental health; Juvenile and adult criminal justice, correctional, or parole systems and programs; Family planning and women's health agencies; STD and TB clinics and programs; and Medicaid managed care providers.

(c) What would be the responsibilities and roles of each partner organization?

(d) Which of your proposed activities will be carried out by those organizations working with you, whether they are part of an HIV prevention coalition, subcontractor, or non-paid partner? You must provide in your application a letter of intent from all partnering organizations, as applicable.

(4) Confidentiality (50 points)

(a) What steps will you take to ensure the confidentiality of all records, activities, and information related to your clients?

(b) What steps will you take to ensure the confidentiality of your clients during program activities?

(5) Management and Staffing of the Program (20 points)

(a) How will you manage your program?

(b) What will be the responsibilities and roles of the staff?

(c) What skills and experience does your staff have working with the target population?

(d) What are the roles and responsibilities of those organizations you want to work with you (for example, skills, staff responsibilities, experience)?

(6) Time line (20 points)

What are the details of your time line? Include information on the most important steps in your project and the approximate dates for when a step is begun and expected to be completed.

c. Training, Quality Assurance, and Program Monitoring and Evaluation (Suggested length: 8 pages) (Points for this section: 200 points)

How this section will be scored: We will look at your overall plan to determine if your objectives are appropriate to your goals, if they are complete, sound in their methods, doable, specific (how detailed you are in what you want to do), time phased (have you set a time frame), and measurable (can you show that your activities made a difference).

In this section, discuss how you will address each of the requirements for training, quality assurance, and program monitoring and evaluation. With each goal and set of objectives, you also need to discuss activities, staffing/resources, data collection, and your time line.

Answer all of the following questions for this section.

(1) What will you do to make sure your staff gets the training they need? Give an estimate of the number of staff to be trained, which staff will be trained, and who will provide the training? (40 points)

(2) How will you routinely monitor your staff's activities to determine if they are following established guidelines and protocols and what ongoing training they need? (30 points)

(3) How will you determine and meet your organization's needs in the areas of capacity-building or technical assistance? (30 points)

(4) How will you find out if you are meeting your objectives during the first year of operation? (30 points)

(5) How will you measure whether your services are meeting the needs of the target population and if those you refer for services are using the referral? (30 points)

(6) How will you monitor your activities and those of the organizations working with you as subcontractors or as collaborators? (20 points)

(7) How would you monitor the progress of your coalition? (20 points)

d. Organizational History and Experience (Suggested length: 6 pages) (Points for this section: 250 points)

How this section will be scored: We will look at the overall experience of your organization in working with YMSMs, there sexual partners, and transgendered youth and networking with other agencies. This will include how much experience you have related to your proposed project.

Answer all of the following questions for this section.

(1) How does the composition of your board of directors reflect your target population? (40 points)

(2) How does the composition of your key staff (for example, management, supervisory, and administrative positions) and key service provision positions (for example, outreach worker, prevention case manager, counselor, group facilitator) reflect your target population? (40 points)

(3) What are the specific kinds of health-related services, other than HIV prevention services, that you have provided your target population and for how long? (20 points)

(4) What are the HIV prevention services that you have provided your target population and for how long? (20 points)

(5) What other experience does your organization have in providing services to YMSMs and their partners, and for how long? (30 points)

(6) What is your organization's experience in linking with other organizations to provide HIV care or prevention services and ongoing care, if needed, for your clients? (20 points)

(7) What is your agencies experience in developing or being a part of at least one coalition or collaborative activity, not limited to HIV? Please include a summary of the collaboration, its purpose, accomplishments and activities. Attach memoranda of agreement from current coalition members and/or collaborators that describe existing relationships and specify the length of their involvement and contributions (see Attachment 5). (25 points)

If there are no memoranda of agreement, list and describe the organizations and entities that have participated in the coalition and/or collaborative activities. Include a description of existing relationships, length of involvement, and contributions.

(8) How have you ensured that any materials or interventions that you use in your program are culturally sensitive and appropriate for the target population? (25 points)

(9) What is your experience in collaborating with government and non-government organizations, including national agencies or organizations, State and local health departments, community planning groups, and State and local non-government organizations that provide HIV, TB, STD or substance abuse prevention, treatment, and care services? (10 points)

(10) What experience does your organization have in record keeping of when and how services are provided, evaluating services, and marketing services to the target population? (10 points)

(11) What experience does your organization have in improving the way services are delivered by finding and accessing other resources (for example, other organizations, materials, proven strategies)? (10 points)

e. Communication and Information Dissemination (Suggested length: 3 pages) (Points for this section: 75 points)

How this section will be scored: We will look at the overall experience of your organization sharing information with other partners, health departments, national organizations.

Answer all of the following questions for this section.

(1) How are you planning to market your prevention program and services to the target population and local community? (25 points)

(2) How are you planning to compile lessons learned from the project? (30 points)

(3) How would you ensure access to Internet and e-mail communication for your organization during the first year of funding? (20 points)

5. Budget

Categories A and B

In this section, you will need to provide a detailed description of your budget needs and the type and number of staff you will need to successfully put into place your proposed activities. Use Form 5161, 424A for the correct format when writing your budget. These forms are provided in the application package, but are also available in a PDF format at the following Website: http://www.cdc.gov/od/pgo/forminfo.htm.

You must provide details of your budget for each activity you want to do. You must show how the operating costs will support the activities and objectives you propose.

Your organization should have the capability to access the Internet and to download documents about HIV from CDC and other sites, as well as have electronic mail (e-mail) available. If you do not have this capability, you must provide a budget for purchasing this equipment in the first year of funding.

The following information and questions will help you in writing this part of the application.

(1) What are your budget and staffing needs? This answer should provide the specifics of how you plan to spend funds.

Note: CDC may not approve or fund all proposed activities. Give as much detail as possible to support each budget item. List each cost separately when possible.

(2) If you are contracting with other organizations or are applying as a coalition, you must include in the budget the type and name (if known) of the organization(s); how you chose the organization(s); what activities they will do and why they are the best ones to do these activities; a detailed list of the funds you think you will need to pay the organization(s); why and how long you will use their services; and how you will keep track of what they are doing for you.

(3) Provide a description for each job, including job title, function, general duties, and activities; the rate of pay and whether it is hourly or salary; and the level of effort and how much time will be spent on the activities (give this in a percentage, for example, 50% of time spent on evaluation). Also, if you already know names and titles of persons you will be working with, include this information and a resume, if available. If you don't have names yet, tell us how you plan to recruit these persons. For positions that are voluntary, give a description of the work the volunteers will be doing. Also include the experience and training that is available in relation to the proposed project.

(4) If you ask for indirect costs, you must include a copy of your organization's current agreement concerning your negotiated Federal indirect cost rate.

F. Submission and Deadline

You must send to us the original and two (2) copies of PHS 5161 (including SF424—OMB Number 0348-0043). Forms are available at the following website: http://www.cdc.gov/od/pgo/forminfo.htm.

You must also send an original and two (2) copies of your application, including attachments.

Send your application to: David A. Wilson, Grants Management Branch, Procurement and Grants Office, Program Announcement 01163, Centers for Disease Control & Prevention, 2920 Brandywine Road, Room 3000, Atlanta, Georgia 30341-4146.

Application Deadline: On or Before July 27, 2001.

Your application will be accepted, if it has a postmark of July 31, 2001 from the U.S. Postal Service or a commercial carrier (no private meters will be accepted) and arrives in time to be given to the independent review group.

Late Applications: Applications that are not received on time, that do not have a readable postmark, have a postmark from a private meter machine, or arrive too late to be included in the independent review, will be considered late, will not be accepted for review, and will be returned to the applicant.

G. Evaluation Criteria

Your application will not be compared to other applications. It will only be reviewed based on the information contained in the narrative section. This will be done by an independent review group that is chosen by CDC. Before final award decisions are made, CDC may make general site visits to those CBOs who rank high on the initial scoring to look at your program, business management, or fiscal capabilities. CDC may also check with the health department and your organization's board of directors to find out more about your organizational structure and the availability of needed services and support.

H. Other Requirements

The following are additional requirements for this program.

AR-4 HIV/AIDS Confidentiality Provisions

AR-5 HIV Program Review Panel Requirements

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-20 Conference Support

AR-21 Small, Minority, Women-Owned Businesses

Technical Reporting Requirements

If you are selected for funding, you must let CDC know how you are doing by sending to us an original plus two (2) copies of—

1. Quarterly progress reports, no later than 30 days after the end of each 3-month period;

2. A financial status report, no later than 90 days after the end of each budget period;

3. Final financial report and performance report, no later than 90 days after the end of the project period; and

Note: Send all reports to the Grants Management Specialist identified in section “I. Where Can I Get More Information.”

If funded, CDC staff will visit your organization to learn about your activities. When asking for the continuation awards, you must again show CDC that you still meet the requirements stated under “B. Who Can Apply?”.

Note: Successful applicants may be contacted by the National Prevention Information Network (NPIN) to obtain information on their program resources. Your resources may be used in referrals and resource directories. If selected for funding, three copies of all educational materials and resources developed under this grant should be sent to NPIN for inclusion in their databases.

If you develop HIV prevention materials using CDC funds, you must first check with NPIN to find out if the same kind of materials have already been developed.

NPIN also makes available information and technical assistance services for use in program planning and evaluation. They can be contacted at the numbers and Internet site given above.

NPIN makes available materials on HIV, STD, and TB to the general public through its Internet site (www.cdcnpin.org), its 1-800 number (1-800-458-5231; TTY users: 1-800-243-7012), and fax number (1-888-282-7681).

Human Subjects Guidelines

If you are conducting a research project that involves human subjects, you must ensure that your application includes or addresses the following:

1. Requirements of Title 45 CFR Part 46 for the protection of human subjects? (Not scored; however, an application can be disapproved if the research risks are sufficiently serious and protection against risks is so inadequate as to make the entire application unacceptable.)

2. Requirements of CDC Policy regarding the inclusion of women, ethnic, and racial groups in the proposed research.

This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

Note: Projects that involve the collection of information from 10 or more individuals and funded by cooperative agreement will be subject to review and approval by the Office of Management and Budget (OMB) under the Paperwork Reduction Act.

I. Authority and Catalog of Federal Domestic Assistance Number

This program is authorized under section 301(a) and 317 of the Public Health Service Act, [42 U.S.C. section 241(a) and 247(b)], as amended. The Catalog of Federal Domestic Assistance number is 93.939.

J. Where To Obtain Additional Information

CDC strongly suggests that you supplement this program announcement as it appears in the Federal Register, with a copy of the program announcement that is in an easy-to-use format. This easy-to-read version can be found on the CDC home page Internet address http://www.cdc.gov. Click on “Funding” then “Grants and Cooperative Agreements.”

To request a hard copy of the application, call 1-888-GRANTS4(1-888-472-6874). You will be asked to leave your name and address and will be instructed to identify the Program Announcement number you want.

If you have questions after reviewing the contents of all the documents, business management technical assistance may be obtained from: David A. Wilson, Grants Management Specialist, Grants Management Branch, Procurement and Grants Office, Centers for Disease Control and Prevention, 2920 Brandywine Road, Room 3000, Atlanta, GA 30341-4146, Telephone number: 770-488-2700, E-mail address: DAWilson@cdc.gov.

For program technical assistance, contact: Bill Comeaux, Project Officer, Prevention Program Branch, Division of HIV/AIDS Prevention, Centers for Disease Control and Prevention, 1600 Clifton Road, NE, MS-E58, Atlanta, GA 30333, Telephone number: 404-639-0968, E-mail address: wcomeaux@cdc.gov.

Dated: June 15, 2001.
John L. Williams,
Director, Procurement and Grants Office, Centers for Disease Control and Prevention (CDC).

[FR Doc. 01-15595 Filed 6-20-01; 8:45 am]

BILLING CODE 4163-18-P